NATIONAL AERONAUTICS AND SPACE ADMINISTRATION

[Notice (05-168)]

Government-Owned Inventions, Available for Licensing

AGENCY: National Aeronautics and Space Administration.

ACTION: Notice of Availability of Inventions for Licensing.

SUMMARY: The inventions listed below are assigned to the National Aeronautics and Space Administration, have been filed in the United States Patent and Trademark office, and are available for licensing.

DATES: December 9, 2005.

FOR FURTHER INFORMATION CONTACT: Linda B. Blackburn, Patent Counsel, Langley Research Center, Mail Code 141, Hampton, VA 23681-2199; telephone (757) 864-9260; fax (757) 864-9190.

NASA Case No. LAR-16885-1: Method Of Simulating Slow-Through Area Of A Pressure Regulator;

NASA Case No. LAR-17128-1: Method And Apparatus For Loss Of Control Inhibitor Systems (CIP Of 16566-1);

NASA Case No. LAR-16386-1-CU: Carbon Nanotube Reinforced Porous Carbon Having Three-Dimensionally Ordered Porosity And Method Of Fabricating Same;

NASA Case No. LAR-16974-1: Flexible Framework For Capacitive Sensing;

NASA Case No. LAR-16970-1: System And Method For Detecting Cracks And Their Location;

NASA Case No. LAR-17155-1: Wireless Fluid Level Measuring System (Broken Out Of LAR-16974-1;

NASA Case No. LAR-17021-1: Method For Correcting Control Surface Angle Measurements In Single Viewpoint Photogrammetry;

NASA Case No. LAR-17003-1: Vortex Control For Rotor Blade Devices;

NASA Case No. LAR-17017-1: Simultaneous Multiple-Location Separation Control;

NASA Case No. LAR-16868-1: Silicon Germanium Semiconductive Alloy And Method Of Fabricating Same.

Dated: December 5, 2005.
Keith T. Sefton,
Deputy General Counsel, Administration and Management.

[FR Doc. E5-7170 Filed 12-8-05; 8:45 am]

BILLING CODE 7510-13-P